FEDERAL PERMITTING IMPROVEMENT STEERING COUNCIL

Agency Information Collection Activities: Proposed Collection; Comment Request

AGENCY: Federal Permitting Improvement Steering Council.

ACTION: Notice of request for comments regarding the reinstatement of an OMB clearance.

SUMMARY: In accordance with the Paperwork Reduction Act, the Federal Permitting Improvement Steering Council (Permitting Council) will be submitting to the Office of Management and Budget (OMB) a request to reinstate an expired collection of information, previously approved as OMB Control No. 3121-0001, Permitting Notice of Initiation. The Permitting Council publishes this notice and invites the public and Federal agencies to comment on the proposed reinstatement.

DATES: Submit comments on or before March 20, 2026.

ADDRESSES: Submit comments to legal@permitting.gov, with the subject line “Comments for Reinstatement of 3121-0001.”

FOR FURTHER INFORMATION CONTACT: Anderson Tran at anderson.tran@permitting.gov or (202) 748-3727.

SUPPLEMENTARY INFORMATION:

Background: Established in 2015 by Title 41 of the Fixing America's Surface Transportation Act (FAST-41), 42 U.S.C. 4370m et seq., the Permitting Council is a unique Federal agency charged with improving the transparency and predictability of the Federal environmental review and authorization process for certain infrastructure projects. The Permitting Council is comprised of the Permitting Council Executive Director, who serves as the Council Chair; 13 Federal agency Council members (including deputy secretary-level designees of the Secretaries of Agriculture, Army, Commerce, Interior, Energy, Transportation, Defense, Homeland Security, and Housing and Urban Development, the Administrator of the Environmental Protection Agency, and the Chairs of the Federal Energy Regulatory Commission, Nuclear Regulatory Commission, and the Advisory Council on Historic Preservation); and the Chair of the Council on Environmental Quality and the Director of the OMB. 42 U.S.C. 4370m-1(a) & (b).

The Permitting Council coordinates Federal environmental reviews and authorizations for projects that seek and qualify for FAST-41 coverage. These projects are entitled to comprehensive permitting timetables, and a transparent and collaborative management of those timetables on the Federal Permitting Dashboard in compliance with FAST-41 procedural requirements. 42 U.S.C. 4370m-2(c) & (d). Sponsors of FAST-41 covered projects also benefit from the direct engagement of the Permitting Council Executive Director and the Permitting Council members in timely identification and resolution of permitting issues that affect covered projects' permitting timetables.

Collection of Information: FAST-41 is a voluntary program for project sponsors to have additional support through the environmental review and permitting process. The first step to becoming a covered project under FAST-41 is to submit a FAST-41 Initiation Notice (FIN), required by 42 U.S.C. 4370m-2(a)(1). The FIN must include the purpose of the project; a brief description; a statement of technical and financial feasibility, a statement of anticipated federal financing, reviews, and authorizations; and an assessment of whether the project meets the statutory definition of a “covered project” under FAST-41. 42 U.S.C. 4370m-2(a)(1)(C).

The FIN is a collection of information necessary for the administration of FAST-41. Such a collection of information is required to have approval under the Paperwork Reduction Act. Approval for the FIN was originally provided to the General Services Administration (GSA) in 2018 under OMB control number 3090-0316 and was transferred to the Permitting Council in 2020 and became OMB control number 3121-0001. The approval subsequently expired on January 31, 2021. The Permitting Council seeks to reinstate the approval for the FIN collection of information.

Estimated Burden: The estimated burden for providing the information required by the FIN is as follows:

Respondents: 75.

Responses per Respondent: 1.

Total Annual Responses: 75.

Hours per Response: 2.

Total Burden Hours: 150.

Public Comments: Public comments are invited on whether this collection of information is necessary; whether it will have practical utility; whether our estimate of the public burden of this collection of information is accurate; ways to enhance the quality, utility, and clarity of the information to be collected; and ways in which we can minimize the burden of the collection of information on those who are to respond.

Obtaining Copies of Proposal: Requesters may obtain a copy of the information collection documents by emailing legal@permitting.gov, with the subject line, “OMB Control No. 3121-0001.”

Authority: 44 U.S.C. 3501 et seq.; 5 CFR part 1320; 42 U.S.C. 4370m-2(a)(1).

Dated: January 13, 2026.
Emily Domenech,
Executive Director, Federal Permitting Improvement Steering Council.

[FR Doc. 2026-00879 Filed 1-15-26; 8:45 am]

BILLING CODE P